DEPARTMENT OF HOMELAND SECURITY

Coast Guard

33 CFR Part 117

[Docket No. USCG-2011-0226]

Drawbridge Operation Regulation; Atlantic Intracoastal Waterway, Albemarle and Chesapeake Canal, Chesapeake, VA

AGENCY: Coast Guard, DHS.

ACTION: Notice of temporary deviation from regulations.

SUMMARY: The Commander, Fifth Coast Guard District, has issued a temporary deviation from the regulations governing the operation of the S168 Bridge across the Atlantic Intracoastal Waterway, Albemarle and Chesapeake Canal, mile 12.0, at Chesapeake (Great Bridge), VA. This deviation is necessary to accommodate the annual Christmas parade event.

DATES: This deviation is effective from 4 p.m. on December 3, 2011 through 9 p.m. on December 4, 2011.

ADDRESSES: Documents mentioned in this preamble as being available in the docket USCG-2011-0226 and are available online by going to http://www.regulations.gov, inserting USCG-2011-0226 in the “Keyword” box, and then clicking “Search”. This material is also available for inspection or copying at the Docket Management Facility (M-30), U.S. Department of Transportation, West Building Ground Floor, Room W12-140, 1200 New Jersey Avenue SE., Washington, DC 20590, between 9 a.m. and 5 p.m., Monday through Friday, except Federal Holidays.

FOR FURTHER INFORMATION CONTACT: If you have questions on this rule, call or email Mr. Waverly W. Gregory, Jr., Bridge Administrator, Fifth Coast Guard District; telephone (757) 398-6222, email Waverly.W.Gregory@uscg.mil. If you have questions on reviewing the docket, call Renee V. Wright, Program Manager, Docket Operations, (202) 366-9826.

SUPPLEMENTARY INFORMATION: The City of Chesapeake, who owns and operates the S168 Bridge across the Atlantic Intracoastal Waterway, Albemarle and Chesapeake Canal mile 12.0, at Chesapeake (Great Bridge), VA, has requested a temporary deviation from the current operating regulations set out in 33 CFR 117.997(g), to accommodate the annual Christmas parade event. Normally, the bridge opens on signal; except that, from 6 a.m. to 7 p.m., the draw need be opened only on the hour or, if the vessel cannot reach the draw exactly on the hour, the drawtender may delay the hourly opening up to ten minutes past the hour.

In the closed position to vessels, this lift-type drawbridge provides a vertical clearance of 8.5 feet, above mean high water.

The Chesapeake annual Christmas parade event is scheduled for December 3, 2011. Under this temporary deviation, the drawbridge will remain in the closed position to vessels requiring an opening from 4 p.m. to 6 p.m. and from 8 p.m. to 10 p.m. on December 3, 2011. And, operations on December 4, 2011 will take place as set out in 33 CFR 117.997(g). However, should weather preclude this event from taking place on December 3, 2011, the event will be re-scheduled to take place on December 4, 2011. In that case, the drawbridge will operate as normal on December 3, 2011 and the drawbridge will remain in the closed position to vessels requiring an opening from 3 p.m. to 5 p.m. and from 7 p.m. to 9 p.m. on December 4, 2011. At all other times during the effective period of this temporary deviation, the drawbridge will operate as outlined at 33 CFR 117.997(g).

Vessels may transit under the drawbridge while it is in the closed position. The Atlantic Intracoastal Waterway caters to a variety of vessels from tug and barge traffic to recreational vessels traveling from Florida to Maine. The Coast Guard will inform unexpected users of the waterway through our local and broadcast Notices to Mariners of the limited operating schedule for the drawbridge so that vessels can arrange their transits to minimize any impacts caused by the temporary deviation. The Atlantic Ocean is the alternate route for vessels and the bridge will be able to open in the event of an emergency.

In accordance with 33 CFR 117.35(e), the draw must return to its original operating schedule immediately at the end of the designated time period.

This deviation from the operating regulations is authorized under 33 CFR 117.35.

Dated: October 19, 2011.
Waverly W. Gregory, Jr.
Bridge Program Manager, By direction of the Commander, Fifth Coast Guard District.

[FR Doc. 2011-29242 Filed 11-10-11; 8:45 am]

BILLING CODE 9110-04-P